DEPARTMENT OF THE INTERIOR

Bureau of Indian Affairs

Privacy Act of 1974, as Amended; Amendment of an Existing System of Records

AGENCY: Bureau of Indian Affairs, Interior.

ACTION: Proposed Amendment of an Existing Privacy Act System of Records Notice.

SUMMARY: Pursuant to the provisions of the Privacy Act of 1974, as amended (5 U.S.C. 552a), the Department of the Interior (Department) is issuing a public notice of its intent to amend an existing Privacy Act system of records notice, entitled, Interior, BIA-2 “Safety Management Information System.” One of the revisions is to change the name of the system to BIA-2, “Safety Records System (SRS).” The amendments will also update the existing notice and include a new group of information which will be collected as a result of new policy. The new information is a result of documentation required to issue a Motor Vehicle Operation Authorization Card. Other changes to Interior BIA-2 include updating data in the following fields: System Locations, Categories of Individuals Covered by the System, Categories of Records in the System, Routine Uses of Records Maintained in the System, Categories of Users and the Purposes of Such Uses, System Manager, and Retention and Disposal.

DATES: Comments must be received by July 13, 2009.

ADDRESSES: Mail or hand-deliver comments to: Indian Affairs Privacy Officer, 625 Herndon Parkway, Herndon, Virginia 20170, or by e-mail to Joan.Tyler@bia.gov.

FOR FURTHER INFORMATION CONTACT: Paul J. Holley, Bureau Safety Manager, Bureau of Indian Affairs (BIA), Office of Facilities, Environmental and Cultural Resources, Division of Safety and Risk Management, 1011 Indian School Road, NW., Suite 331, Albuquerque, New Mexico 87104, or by e-mail to: paul.holley@bia.gov.

SUPPLEMENTARY INFORMATION: The BIA maintains the Safety Records System. The information collected for this system is to be used to provide complete recordkeeping on qualified motor vehicle operators in the BIA and the Bureau of Indian Education (BIE), employee and other individual accidents or incidents, Federal employees' compensation claims and adjudication of tort claims filed against BIA and BIE. Information in this system of records is necessary to comply with BIA safety management, motor vehicle safety policy, and issuance of Motor Vehicle Operation Authorization Identification Cards. The purpose of the name change is to differentiate this system from another system maintained by the Department with the same name.

Under 5 U.S.C. 552a(e)(11), the public must be provided with a 30-day period in which to comment on the agency's intended use of the information in the system of records. The Office of Management and Budget (OMB), in its Circular A-130, requires an additional 10-day period (for a total of 40 days) in which to make comments. Comments must be received by the date specified in the DATES section of this notice. Comments received within 40 days of publication in the Federal Register will be considered. The system will be effective as proposed at the end of the comment period unless comments are received which would require a contrary determination. The Department will publish a revised notice if changes are made based upon a review of comments received. A copy of the notice, with changes incorporated follows.

Before including your address, telephone number, e-mail address, or other personal identifying information in your comment, you should be aware that your entire comment—including your personal identifying information—may be made publicly available at any time. While you can ask us in your comment to withhold your personal identifying information from public review, we cannot guarantee that we will be able to do so.

Dated: March 26, 2009.
George T. Skibine,
Deputy Assistant Secretary for Policy and Economic Development.

INTERIOR/BIA-2

System name:

Safety Records System—Interior, BIA-2.

System location:

Motor Vehicle Authorization Card information may be located with managers and supervisors in offices of Indian Affairs (BIA and BIE). This and other Safety Record System information is located with the Chief, Division of Safety and Risk Management, 1011 Indian School Road, NW., Suite 331, Albuquerque, New Mexico 87104, and regional Safety Managers and Safety Officers listed below in the System Manager section.

Categories of individuals covered by the system:

(1) Employee and contractor operators and incidental operators of a privately owned or leased, or government owned or leased motor vehicle and equipment; (2) Federal employees and contractors who have had an accident or an incident; (3) Injured employees and contractors who submit claims for medical attention or loss of earning capability due to on-the-job injury; and (4) Individuals filing tort claims against the United States government.

Categories of records in the system:

(1) Documents supporting the issuance of Motor Vehicle Operators Authorization Cards to employees such as driver tests, authorization to use, safe driving award and correspondence, forms for authorization and driving records history; (2) Reports of accident/incident by agency region, name of person involved and Social Security Number; (3) Employee claims case files pertaining to claims submitted to the Office of Workmen's Compensation; (4) Case files with supporting documents pertaining to tort claims filed by an individual against the United States government; (5) Records concerning individuals which have arisen as a result of that individual's misuse of or damage to government-owned or government-leased motor vehicles, other equipment/facilities, and salary overpayments as a result of misuse of leave relating to Office of Workmen's Compensation claims deemed to be invalid; and (6) Records relating to individual employee operation of government-owned vehicles, including driver tests, authorization to use, safe driving awards, and related correspondence.

Authority for maintenance of the system:

5 U.S.C. 7902; 28 U.S.C. 2671-2680; 31 U.S.C. 242-243.

Routine uses of records maintained in the system, including categories of users and the purposes of such uses:

The primary use of the records is to provide complete recordkeeping on qualified motor vehicle operators in BIA and BIE, employee and other individual accidents or incidents, Federal employees' compensation claims and adjudication of tort claims.

Disclosures of these records outside the Department of the Interior will be limited to:

(1)(a) To any of the following entities or individuals, when the circumstances set forth in paragraph (b) are met:

(i) The U.S. Department of Justice (DOJ);

(ii) A court or an adjudicative or other administrative body;

(iii) A party in litigation before a court or an adjudicative or other administrative body; or

(iv) Any Department employee acting in his or her individual capacity if the Department or DOJ has agreed to represent that employee or pay for private representation of the employee;

(b) When:

(i) One of the following is a party to the proceeding or has an interest in the proceeding:

(A) Department or any component of the Department;

(B) Any other Federal agency appearing before the Office of Hearings and Appeals;

(C) Any Department employee acting in his or her official capacity;

(D) Any Department employee acting in his or her individual capacity if Department or DOJ has agreed to represent that employee or pay for private representation of the employee;

(E) The United States, when DOJ determines that the Department is likely to be affected by the proceeding; and

(ii) The Department deems the disclosure to be:

(A) Relevant and necessary to the proceeding; and

(B) Compatible with the purpose for which the records were compiled.

(2) To a congressional office in response to a written inquiry that an individual covered by the system, or the heir of such individual if the covered individual is deceased, has made to the office.

(3) To any criminal, civil, or regulatory law enforcement authority (whether Federal, State, territorial, local, Tribal or foreign) when a record, either alone or in conjunction with other information, indicates a violation or potential violation of law—criminal, civil, or regulatory in nature, and the disclosure is compatible with the purpose for which the records were compiled.

(4) To an official of another Federal agency to provide information needed in the performance of official duties related to reconciling or reconstructing data files or to enable that agency to respond to an inquiry by the individual to whom the record pertains.

(5) To Federal, State, territorial, local, Tribal, or foreign agencies that have requested information relevant or necessary to the hiring, firing or retention of an employee or contractor, or the issuance of a security clearance, license, contract, grant or other benefit, when the disclosure is compatible with the purpose for which the records were compiled.

(6) To representatives of the National Archives and Records Administration to conduct records management inspections under the authority of 44 U.S.C. 2904 and 2906.

(7) To State and local governments and Tribal organizations to provide information needed in response to court order and/or discovery purposes related to litigation, when the disclosure is compatible with the purpose for which the records were compiled.

(8) To an expert, consultant, or contractor (including employees of the contractor) of the Department that performs services requiring access to these records on Department's behalf to carry out the purposes of the system.

(9) To appropriate agencies, entities, and persons when:

(a) It is suspected or confirmed that the security or confidentiality of information in the system of records has been compromised; and

(b) The Department has determined that as a result of the suspected or confirmed compromise there is a risk of harm to economic or property interest, identity theft or fraud, or harm to the security or integrity of this system or other systems or programs (whether maintained by the Department or another agency or entity) that rely upon the compromised information; and

(c) The disclosure is made to such agencies, entities and persons who are reasonably necessary to assist in connection with the Department's efforts to respond to the suspected or confirmed compromise and prevent, minimize, or remedy such harm.

(10) To OMB during the coordination and clearance process in connection with legislative affairs as mandated by OMB Circular A-19.

(11) To the Department of the Treasury to recover debts owed to the United States.

(12) To the news media when the disclosure is compatible with the purpose for which the records were compiled.

(13) To a consumer reporting agency if the disclosure requirements of the Debt Collection Act, as outlined at 31 U.S.C. 3711(e)(1), have been met.

Policies and practices for storing, retrieving, accessing, retaining, and disposing of records in the system:

Storage:

Manual—Paper files.

Retrievability:

(a) Indexed alphabetically by name of employee, and (b) Retrieved by manual search.

Safeguards:

Information in this system is maintained with controls meeting safeguard requirements identified in Departmental Privacy Act Regulations (43 CFR 2.51, Assuring the Integrity of Records) for manual record systems. Access to records is limited to authorized personnel whose official duties require such access and bureau officials have access only to records pertaining to their office and immediate employees. All BIA, BIE, and contractor employees with access to this system are required to complete annual Privacy Act, Records Management Act, and Security Training.

Retention and disposal:

(1) Records relating to individual employee operation of Government-owned vehicles, including driver tests, authorization to use, safe driving awards, and related correspondence are retained in accordance with National Archives and Records Administration's General Records Schedule 10.7; and (2) Records related to safety management are retained in accordance with General Record Schedules 10 (Item 50), 18 (Item 11), and 20.

System manager(s) and address:

Contact the Safety Manager or Safety Officer in one of the following offices in which the information resides:

(1) Central Office West: Chief, Division of Safety and Risk Management, Bureau of Indian Affairs, 1011 Indian School Road, NW., Suite 331, Albuquerque, New Mexico 87104;

(2) Great Plains Region: Bureau of Indian Affairs, 115 4th Avenue SE., Aberdeen, South Dakota 57401;

(3) Rocky Mountain Region: Bureau of Indian Affairs, 316 North 26th Street, Billings, Montana 59101;

(4) Navajo Region: Bureau of Indian Affairs, P.O. Box 1060, Gallup, New Mexico 87301;

(5) Southwest Region: Bureau of Indian Affairs, 1001 Indian School Road NW., Albuquerque, New Mexico 87104;

(6) Eastern Region: Bureau of Indian Affairs, 545 Marriott Drive, Suite 700, Nashville, Tennessee 37214;

(7) Southern Plains Region: Bureau of Indian Affairs, P.O. Box 368, Anadarko, Oklahoma 73005;

(8) Alaska Region: Bureau of Indian Affairs, P.O. Box 25520, Juneau, Alaska 99802-5520;

(9) Western Region: Bureau of Indian Affairs, 400 North 5th Street, 2 AZ Center, 12th Floor, Phoenix, Arizona 85004;

(10) Central Office East: Bureau of Indian Affairs, 2051 Mercator Drive, Reston, Virginia 20191;

(11) Midwest Region: Bureau of Indian Affairs, One Federal Drive, Room 550, Ft. Snelling, Minneapolis 55111-4007;

(12) Pacific Region: Bureau of Indian Affairs, 2800 Cottage Way, Sacramento, California 95825;

(13) Haskell Indian Nations University: 155 Indian Avenue 5004, Lawrence, Kansas 66046;

(14) Northwest Region: Bureau of Indian Affairs, 911 NE. 11th Avenue, Portland, Oregon 97232-4169; and

(15) Eastern Oklahoma Region: Bureau of Indian Affairs, P.O. Box 8002, Muskogee, Oklahoma 74401.

Notification procedure:

An individual requesting notification of the existence of records on himself or herself should send a signed, written inquiry to the Systems Manager identified above. The request envelope and letter should both be clearly marked “PRIVACY ACT INQUIRY.” A request for notification must meet the requirements of 43 CFR 2.60.

Record access procedures:

An individual requesting records on himself or herself should send a signed, written inquiry to the Systems Manager identified above. The request should describe the records sought as specifically as possible. The request envelope and letter should both be clearly marked “PRIVACY ACT REQUEST FOR ACCESS.” A request for access must meet the requirements of 43 CFR 2.63.

Contesting record procedures:

An individual requesting corrections or the removal of material from his or her records should send a signed, written request to the System Manager identified above. A request for corrections or removal must meet the requirements of 43 CFR 2.71.

Record source categories:

Individuals involved in accidents, supervisors of employees involved in accidents, supervisors of operations where public visitors are involved in accidents, officials responsible for oversight of contractors and concessionaires, safety professionals and other management officials, and individuals being considered for a Motor Vehicle Operation Authorization Card.

Exemptions claimed for the system:

None.

[FR Doc. E9-12623 Filed 5-29-09; 8:45 am]

BILLING CODE 4310-XN-P